DEPARTMENT OF COMMERCE

International Trade Administration

[A-357-814, A-834-806, A-485-806, A-791-809, C-357-815, C-791-810]

Certain Hot-Rolled Carbon Steel Flat Products from Argentina, Kazakhstan, Romania, and South Africa: Revocation of Antidumping Duty and Countervailing Duty Orders

AGENCY: Import Administration, International Trade Administration, Department of Commerce.

SUMMARY: As a result of the determinations by the International Trade Commission (ITC) that revocation of the antidumping (AD) orders on certain hot-rolled carbon steel flat products (HR steel) from Argentina, Kazakhstan, Romania, and South Africa and the countervailing duty (CVD) orders on HR steel from Argentina and South Africa would not be likely to lead to a continuation or recurrence of material injury to an industry in the United States within a reasonably foreseeable time, the Department of Commerce (the Department) is publishing this notice of revocation of these AD and CVD orders pursuant to section 751(d)(2) of the Tariff Act of 1930, as amended (the Act).

EFFECTIVE DATES: September 11, 2006 (Argentina/CVD), September 19, 2006 (Argentina and South Africa/AD), November 21, 2006 (Kazakhstan/AD), November 29, 2006 (Romania/AD), and December 3, 2006 (South Africa/CVD).

FOR FURTHER INFORMATION CONTACT: Preeti Tolani (Argentina/AD and CVD) at (202) 482-0395, Martha Douthit (Kazakhstan and South Africa/AD) at (202) 482-5050, Richard Rimlinger (Romania/AD) at (202) 482-4477, Elfi Blum (South Africa/CVD) at (202) 482-0197, AD/CVD Operations, Import Administration, International Trade Administration, U.S. Department of Commerce, 14th Street & Constitution Avenue, NW, Washington, DC 20230.

SUPPLEMENTARY INFORMATION:

Background

The AD and CVD orders which cover HR steel from Argentina, Kazakhstan, Romania, and South Africa were published in the Federal Register in September, November and December 2001. See Notice of Antidumping Duty Orders: Certain Hot-Rolled Carbon Steel Flat Products From Argentina and the Republic of South Africa, 66 FR 48242 (September 19, 2001); Antidumping Duty Order: Certain Hot-Rolled Carbon Steel Flat Products From Kazakhstan, 66 FR 58435 (November 21, 2001); and Notice of Amended Final Antidumping Duty Determination and Antidumping Duty Order: Certain Hot-Rolled Carbon Steel Flat Products From Romania, 66 FR 59566 (November 29, 2001); Notice of Countervailing Duty Order: Certain Hot-Rolled Carbon Steel Flat Products from Argentina, 66 FR 47173 (September 11, 2001); Notice of Countervailing Duty Order: Certain Hot-Rolled Carbon Steel Flat Products From South Africa, 66 FR 60201 (December 3, 2001).

On August 1, 2006, the Department initiated and the ITC instituted sunset reviews of the AD orders on HR steel from Argentina, Kazakhstan, Romania, and South Africa and CVD orders on HR steel from Argentina and South Africa pursuant to section 751(c) of the Tariff Act of 1930, as amended (the Act). See Initiation of Five-year (“Sunset”) Reviews, 71 FR 43443 (August 1, 2006); and Hot-Rolled Carbon Steel Flat Products from Argentina, China, India, Indonesia, Kazakhstan, Netherlands, Romania, South Africa, Taiwan, Thailand, and Ukraine, Investigation Nos. 701-TA-404-408 and 731-TA-898-908 (Review), 71 FR 43521 (August 1, 2006).

As a result of its reviews, the Department found that revocation of the AD and CVD orders would likely lead to continuation or recurrence of dumping and countervailable subsidies, and notified the ITC of the magnitude of the margins and net countervailable subsidies likely to prevail were the orders to be revoked. See Certain Hot-Rolled Carbon Steel Flat Products from Argentina, the People's Republic of China, India, Indonesia, Kazakhstan, Romania, South Africa, Taiwan, Thailand, and Ukraine; Final Results of Expedited Sunset Reviews of the Antidumping Duty Orders, 71 FR 70506 (December 5, 2006); and Hot-Rolled Carbon Steel Flat Products from Argentina, India, Indonesia, South Africa, and Thailand: Final Results of Expedited Five- Year (Sunset) Reviews of the Countervailing Duty Orders, 71 FR 70960 (December 7, 2006).

On October 31, 2007, the ITC determined pursuant to section 751(c) of the Act, that revocation of the AD orders on HR steel from Argentina, Kazakhstan, Romania, and South Africa and CVD orders on HR steel from Argentina and South Africa would not be likely to lead to a continuation or recurrence of material injury to an industry in the United States within a reasonably foreseeable time. See Hot-Rolled Steel Products from Argentina, China, India, Indonesia, Kazakhstan, Romania, South Africa, Taiwan, Thailand, and Ukraine, 72 FR 61676 (October 31, 2007) and USITC Publication 3956 (October 2007), entitled Hot-Rolled Steel Products from Argentina, China, India, Indonesia, Kazakhstan, Romania, South Africa, Taiwan, Thailand, and Ukraine: Investigation Nos. 701-TA-404-408 and 731-TA-898-902 and 904- 908 (Review).

Scope of the Orders

The merchandise subject to these orders is certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of these orders.

Specifically included within the scope of these orders are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of these orders, regardless of definitions in the Harmonized Tariff Schedule of the United States (HTSUS), are products in which: (i) iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical descriptions provided above are within the scope of these orders unless otherwise excluded. The following products, by way of example, are outside or specifically excluded from the scope of these orders :

- Alloy hot-rolled steel products in which at least one of the chemical elements exceeds those listed above (including, e.g., American Society for Testing and Materials (ASTM) specifications A543, A387, A514, A517, A506).

- Society of Automotive Engineers (SAE)/American Iron & Steel Institute (AISI) grades of series 2300 and higher.

- Ball bearings steels, as defined in the HTSUS.

- Tool steels, as defined in the HTSUS.

- Silico-manganese (as defined in the HTSUS) or silicon electrical steel with a silicon level exceeding 2.25 percent.

- ASTM specifications A710 and A736.

- USS Abrasion-resistant steels (USS AR 400, USS AR 500).

- All products (proprietary or otherwise) based on an alloy ASTM specification (sample specifications: ASTM A506, A507).

- Non-rectangular shapes, not in coils, which are the result of having been processed by cutting or stamping and which have assumed the character of articles or products classified outside chapter 72 of the HTSUS.

The merchandise subject to these orders is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by these orders, including vacuum degassed fully stabilized, high strength low alloy, and the substrate for motor lamination steel, may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and U.S. Customs purposes, the Department's written description of the merchandise subject to these orders is dispositive.

Revocation of Orders

As a result of the determinations by the ITC that revocation of these AD and CVD orders is not likely to lead to continuation or recurrence of material injury to an industry in the United States within a reasonably foreseeable time, the Department is revoking the AD on HR steel from Argentina, Kazakhstan, Romania, and South Africa and CVD orders on HR steel from Argentina and South Africa.

Pursuant to section 751(d)(2) of the Act and 19 CFR 351.222(i)(2)(i), the effective dates of revocation are September 11, 2006 (Argentina/CVD), September 19, 2006 (Argentina and South Africa/AD), November 21, 2006 (Kazakhstan/AD), November 29, 2006 (Romania/AD), and December 3, 2006 (South Africa/CVD) (i.e., the fifth anniversary of the dates of publication in the Federal Register of the notice of the AD and CVD orders). The Department will notify U.S. Customs and Border Protection to discontinue suspension of liquidation and collection of cash deposits on entries of the subject merchandise entered or withdrawn from warehouse on or after the effective date of revocation of these AD and CVD orders. The Department will complete any pending administrative reviews of these orders and will conduct administrative reviews of subject merchandise entered prior to the effective date of revocation in response to appropriately filed requests for review.

These five-year (sunset) reviews and this notice are in accordance with section 751(c) and 751(d)(2) of the Act. This notice is published pursuant to 751(c) and 777(i) of the Act and 19 CFR 351.218(f)(4).

Dated: November 8, 2007.
Joseph A. Spetrini,
Deputy Assistant Secretary for Import Administration.

[FR Doc. E7-22673 Filed 11-19-07; 8:45 am]

BILLING CODE 3510-DS-S